CONSUMER PRODUCT SAFETY COMMISSION

Sunshine Act Meeting

TIME AND DATE: Wednesday, October 16, 2024—10:00 a.m.-12:00 p.m. (See MATTERS TO BE CONSIDERED).

PLACE: The meeting will be held remotely, and in person at 4330 East West Highway, Bethesda, Maryland, 20814.

STATUS: Commission Meeting—Open to the Public.

MATTERS TO BE CONSIDERED:

Decisional Matter: Draft Final Rule: Safety Standard for Infant Support Cushions.

Briefing Matter: Fiscal Year 2025 Operating Plan.

To attend the meeting remotely, please use the following link: https://cpsc.webex.com/cpsc/j.php?MTID=m569336dacbad291c7ee5cea24627e107.

CONTACT PERSON FOR MORE INFORMATION: Alberta E. Mills, Office of the Secretary, U.S. Consumer Product Safety Commission, 4330 East West Highway, Bethesda, MD 20814, 301-504-7479 (Office) or 240-863-8938 (Cell).

Dated: October 9, 2024.
Alberta E. Mills,
Commission Secretary.

[FR Doc. 2024-23810 Filed 10-10-24; 11:15 am]

BILLING CODE P